DEPARTMENT OF THE INTERIOR

Bureau of Land Management

[14X 1109AF LLUT9223000 L13200000.EL0000, UTU-90194]

Notice of Invitation to Participate; Coal Exploration License Application UTU-90194, Sevier County, UT

AGENCY: Bureau of Land Management, Interior.

ACTION: Notice.

SUMMARY: Pursuant to Mineral Leasing Act of 1920, as amended by the Federal Coal Leasing Amendments Act of 1976 and Bureau of Land Management (BLM) regulations, members of the public are invited to participate with Canyon Fuel Company, LLC, on a pro rata cost sharing basis in a program for the exploration of coal deposits owned by the United States of America in Sevier County, Utah.

DATES: Any party seeking to participate in this exploration program must send written notice to both the BLM and Canyon Fuel Company, LLC, to the addresses provided in the ADDRESSES section below, no later than August 11, 2014. Such written notice must refer to serial number UTU-90194. The notice of invitation to participate in this coal exploration license was published in the Richfield Reaper, beginning the third week of January 2014, once each week for two consecutive weeks.

ADDRESSES: Copies of the exploration license application UTU-90194 and the proposed plan are available for review from 7:45 a.m.-4:30 p.m., Monday through Friday, excluding Federal holidays, in the public room of the BLM-Utah State Office, 440 West 200 South, Suite 500, Salt Lake City, UT 84101.

A written notice to participate in the exploration program should be sent to Roger Bankert, Bureau of Land Management, Utah State Office, Division of Lands and Minerals, 440 West 200 South, Suite 500, Salt Lake City, UT 84101, and to Mark Bunnell, Canyon Fuel Company LLC, c/o SUFCO Mine, 597 South SR 24, Salina, UT 84654.

FOR FURTHER INFORMATION CONTACT: Stan Perkes by telephone (801)539-4036, or by email: sperkes@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR Part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate.

Canyon Fuel Company, LLC, has applied to the BLM for a coal exploration license on U.S. Forest Service surface with federally-owned minerals in Sevier County, Utah.

The lands to be explored for coal deposits in exploration license UTU-90194 are described as follows:

T. 21 S., R. 4 E., SLM, Utah

Sec. 13, W½NE¼, E½NW¼;

Sec. 21, all;

Sec. 22, all;

Sec. 23, W½NW¼, W½SW¼;

Sec. 26, W½NW¼;

Sec. 27, N½;

Secs. 28-33, all.

Containing 5,770.93 acres.

The Federal coal within the lands described for exploration license application UTU-90194 is currently unleased for development of Federal coal reserves.

Authority: 43 CFR 3410.2-1(c)(1).

Jenna Whitlock,
Associate State Director.

[FR Doc. 2014-16223 Filed 7-10-14; 8:45 am]

BILLING CODE 4310-DQ-P